FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011806.

Title: Industrial Maritime Carriers/Nordana Line Slot Charter and Sailing Agreement.

Parties:

Industrial Maritime Carriers (USA), Inc.

Nordana Line (Dannebrog Rederi) AS.

Synopsis: The proposed agreement establishes a vessel-sharing agreement under which Industrial Maritime will make space available to Nordana on Industrial Maritime's vessels operating in the trade between U.S. Gulf ports and ports in Colombia and Venezuela. The parties request expedited review.

By Order of the Federal Maritime Commission.
Dated: May 24, 2002.
Theodore A. Zook,
Assistant Secretary.

[FR Doc. 02-13535 Filed 5-29-02; 8:45 am]

BILLING CODE 6730-01-P